ENVIRONMENTAL PROTECTION AGENCY

[ER-FRL-6678-9]

Environmental Impacts Statements; Notice of Availability

Responsible Agency: Office of Federal Activities, General Information (202) 564-7167 or http://www.epa.gov/compliance/nepa/.

Weekly receipt of Environmental Impact Statements

Filed 08/28/2006 Through 09/01/2006

Pursuant to 40 CFR 1506.9.

EIS No. 20060361, Draft Supplement, NRS, WV, Lost River Subwatershed of the Potomac River Watershed Project, Construction of Site 16 on Lower Cove Run and Deletion of Site 23 on Upper Cove Run, U.S. Army COE Section 404 Permit, Hardy County, WV, Comment Period Ends: 10/25/2006, Contact: Ronald L. Hilliard 304-284-7560.

EIS No. 20060362, Draft EIS, NOA, AK, Alaska Groundfish Harvest Specifications Project, Establish Harvest Strategy for the Bering Sea and Aleutian Islands (BSAI) and Gulf of Alaska (GOA) Groundfish Fisheries, AK, Comment Period Ends: 10/23/2006, Contact: Ben Muse 907-586-7234.

EIS No. 20060363, Final EIS, SFW, IL, Crab Orchard National Wildlife Refuge Comprehensive Conservation Plan (CCP), Implementation, Williamson, Jackson and Unicon Counties, IL, Wait Period Ends: 10/09/2006, Contact: Dan Frisk 618-997-3344.

EIS No. 20060364, Draft EIS, BIA, WA, Spokane Tribes Integrated Resource Management Plan, Implementation, Stevens County, WA, Comment Period Ends: 11/06/2006, Contact: Rudy Peone 509-258-9042.

EIS No. 20060365, Second Draft EIS (Tiering), NAS, 00, Mars Science Laboratory Mission (MSL), To Conduct Comprehensive Science on the Surface of Mars and Demonstate Technological Advancements in the Exploration of Mars, Using a Radioisotope Power Source in 2009 from Cape Canaveral Air Force Station, FL, Comment Period Ends: 10/23/2006, Contact: Mark R. Dahl 202-358-4800.

EIS No. 20060366, Second Draft EIS (Tiering), COE, MD, Mid-Chesapeake Bay Island Ecosystem Restoration Integrated Feasibility Study, Using Uncomtaminated Dredged Material from the Upper Chesapeake Bay Approach Channnels to the Port of Baltimore to Restore and Protect Island Habitat in the Middel Portion of Chesapeake Bay, Dorchester County, MD, Comment Period Ends: 10/23/2006, Contact: Stacey Blersch 410-962-5126.

Dated: September 5, 2006.
Ken Mitteholtz,
Environmental Protection Specialist, Office of Federal Activities.

[FR Doc. E6-14886 Filed 9-7-06; 8:45 am]

BILLING CODE 6560-50-P